DEPARTMENT OF COMMERCE

Membership of the National Telecommunications and Information Administration Performance Review Board

AGENCY: Department of Commerce.

ACTION: Notice of Membership on the National Telecommunications and Information Administration's Performance Review Board.

SUMMARY: In accordance with 5 U.S.C. 4314(c)(4), Department of Commerce (DOC) announce the appointment of persons to serve as members of the National Telecommunications and Information Administration's (NTIA) Performance Review Board (PRB). The NTIA PRB is responsible for reviewing performance ratings, pay adjustments and bonuses of Senior Executive Service (SES) members, and Presidential Rank Awards. The appointment of these members will be for a period of twenty-four (24) months.

DATES: Effective Date: The effective date of service of appointees to the National Telecommunications and Information Administration Performance Review Board is upon publication of this notice.

FOR FURTHER INFORMATION CONTACT: Deborah Martin, Director, Office of Executive Resources—Operations, Office of Human Resources Management, Office of the Director, 14th and Constitution Avenue, NW., Washington, DC 20230, (202) 482-3130.

SUPPLEMENTARY INFORMATION: The names, position titles, and type of appointment of the members of the NTIA/PRB are set forth below:

Department of Commerce, National Telecommunications and Information Administration 2008-2010 Performance Review Board Membership

Department of Commerce/National Telecommunications and Information Administration

Daniel C. Hurley, Director, Communications and Information Infrastructure Assurance Program (Chairperson).

Bernadette McGuire-Rivera, Associate Administrator for Telecommunications and Information Applications.

Renee Macklin, Chief Information Officer, International Trade Administration.

Alan W. Vincent, Associate Administrator for Telecommunications Sciences and Director, Institute for Telecommunication Sciences.

Michael J. Crison, Director, Requirements, Planning and Systems Integration Division.

Karl B. Nebbia, Associate Administrator for Spectrum Management.

Dated: October 15, 2008.
Deborah Martin,
Director, Office of Executive Resources—Operations.

[FR Doc. E8-24943 Filed 10-20-08; 8:45 am]

BILLING CODE 3510-BS-P